LIBRARY OF CONGRESS

Copyright Office

[Docket No. 2014-03]

Music Licensing Study

AGENCY: U.S. Copyright Office, Library of Congress.

ACTION: Notice of extension of comment period.

SUMMARY: The United States Copyright Office is extending the deadline for public comments regarding the effectiveness of existing methods of licensing music that were solicited in a March 17, 2014 Notice of Inquiry. See 78 FR 14739 (Mar. 17, 2014).

DATES: Written comments are now due on or before May 23, 2014. The deadline for submitting requests to participate in the public roundtables on music licensing to be held in June 2014 in Nashville, Los Angeles, and New York remains May 20, 2014.

ADDRESSES: All comments shall be submitted electronically. A comment page containing a comment form is posted on the Office Web site at http://www.copyright.gov/docs/musiclicensingstudy. The Web site interface requires commenting parties to complete a form specifying their name and organization, as applicable, and to upload comments as an attachment via a browser button. To meet accessibility standards, commenting parties must upload comments in a single file not to exceed six megabytes (MB) in one of the following formats: The Portable Document File (PDF) format that contains searchable, accessible text (not an image); Microsoft Word; WordPerfect; Rich Text Format (RTF); or ASCII text file format (not a scanned document). The form and face of the comments must include both the name of the submitter and organization. The Office will post the comments publicly on the Office's Web site in the form that they are received, along with associated names and organizations. If electronic submission of comments is not feasible, please contact the Office at 202-707-8350 for special instructions.

FOR FURTHER INFORMATION CONTACT: Jacqueline C. Charlesworth, General Counsel and Associate Register of Copyrights, by email at jcharlesworth@loc.gov or by telephone at 202-707-8350; or Sarang V. Damle, Special Advisor to the General Counsel, by email at sdam@loc.gov or by telephone at 202-707-8350.

SUPPLEMENTARY INFORMATION:

I. Background

The U.S. Copyright Office is conducting a study to assess the effectiveness of current methods for licensing sound recordings and musical works. The Office published a Notice of Inquiry, seeking written comments on twenty-four subjects concerning the current environment in which music is licensed. See 78 FR 14739 (Mar. 17, 2014). The Office also published a Notice announcing public roundtables to be held in June 2014 in Nashville, Los Angeles, and New York. See 79 FR 25626 (May 5, 2014).

To ensure commenters have sufficient time to address the topics set forth in the March 2014 Notice of Inquiry, the Office is extending the time for filing written comments from May 16, 2014 to May 23, 2014. Note that the deadline for submitting requests to participate in the public roundtables on music licensing remains May 20, 2014.

Dated: May 12, 2014.
Jacqueline C. Charlesworth,
General Counsel and Associate Register of Copyrights.

[FR Doc. 2014-11208 Filed 5-14-14; 8:45 am]

BILLING CODE 1410-30-P